DEPARTMENT OF ENERGY

Federal Energy Regulatory Commission

[Docket No. ER00-1259-000, EL00-38-000, and EC00-48-000]

Louisiana Generating, L.L.C. Cajun Electric Power Cooperative, Inc. Louisiana Generating, L.L.C.; Notice of Filing

March 17, 2000.

Take notice that on March 17, 2000, Louisiana Generating, L.L.C. (Generating, and Southwestern Electric Power Company (SWEPCO), tendered for filing a supplement to its January 13, 2000 power purchase agreement between SWEPCO and Cajun Electric Power Cooperative, Inc. (Cajun) in the above-referenced dockets.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before March 27, 2000. Protests will be considered by the Commission to determine the appropriate action to be taken, but will not serve to make protestant parties to the proceedings. Any person wishing to become a party must file a motion to intervene. Copies of this filing are on file with the Commission and are available for public inspection. This filing may also be viewed on the Internet at http:\\www.ferc.fed.us/online/rims.htm (call 202-208-2222 for assistance).

Linwood A. Watson, Jr.,
Acting Secretary.

[FR Doc. 00-7175 Filed 3-22-00; 8:45 am]

BILLING CODE 6717-01-M